DEPARTMENT OF ENERGY

Federal Energy Regulatory Commission

[Project No. 12486-003]

Twin Lakes Canal Company; Notice Dismissing Request for Rehearing

May 1, 2008.

On March 10, 2008, the Secretary issued a notice dismissing as moot a motion filed by PacifiCorp on October 24, 2007, seeking, inter alia, to cancel a preliminary permit issued to Twin Lakes Canal Company (Twin Lakes) for the proposed Bear River Narrows Project No. 12486, to be located on the Bear River in Franklin County, Idaho. The notice explained that the request to cancel the preliminary permit was moot because the permit had expired. On April 3, 2008, PacifiCorp filed a request for rehearing of the Secretary's notice.

On rehearing, PacifiCorp does not allege error with the conclusion that the request to cancel the permit was rendered moot when the permit expired. Instead, PacifiCorp argues, as it did in its October 24, 2007 motion, that Twin Lakes' preparation of a license application using the Commission's Integrated Licensing Process (ILP) should be terminated because Twin Lakes' project would impermissibly conflict with PacifiCorp's upstream licensed Bear River Project No. 20.¹

¹ The ILP is set forth in Part 5 of the Commission's regulations, 18 CFR Part 5 (2007). Twin Lakes initiated an ILP by filing a notice of intention and preliminary application document for the Bear River Narrows Project on February 23, 2007.

The Secretary's March 10, 2008 notice dismissed PacifiCorp's motion only to the extent that it sought cancellation of Twin Lakes' permit. It took no action with respect to the other arguments raised by PacifiCorp in its filing, which remain in the public record of Project No. 12486 and will be considered in the context of the ILP.²

² In addition, on February 5, 2008, Twin Lakes filed an application for second preliminary permit for the Bear River Narrows Project (docketed Project No. 12486-002). Notice of the application was issued on April 8, 2008, and established June 9, 2008, as the deadline for filing comments, protest, and motions to intervene. If PacifiCorp has concerns regarding Twin Lake's second preliminary permit application, it should raise them in that proceeding.

Accordingly, because PacifiCorp does not raise any issues or arguments relating to the mootness of its request to cancel the initial preliminary permit in Project No. 12486, its request for rehearing of the March 10, 2008 notice is dismissed.

This notice constitutes final agency action. Requests for rehearing of this dismissal notice must be filed within 30 days of the date of issuance of this notice, pursuant to 18 CFR 385.713 (2007).

Kimberly D. Bose,
Secretary.

[FR Doc. E8-10198 Filed 5-7-08; 8:45 am]

BILLING CODE 6717-01-P